DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of currently approved collections. The ICR describes the nature of each of the information collections and the expected burdens. The Federal Register Notice with a 60-day comment period soliciting comments on the following collections of information was published on May 9, 2000, [FR 65, pages 26871-26872].

DATES: Comments must be submitted on or before August 21, 2000. A comment to OMB is most effective if OMB receives it within 30 days of publication.

FOR FURTHER INFORMATION CONTACT: Judy Street on (202) 267-9895.

SUPPLEMENTARY INFORMATION:

Federal Aviation Administration (FAA)

1. Title: Revised Standards for Cargo or Baggage Compartments in Transport Category Airplanes.

Type of Request: Extension of a currently approved collection.

OMB Control Number: 2120-0614.

Forms(s): None.

Affected Public: 90 respondents (Affected operators under 14 CFR part 121).

Abstract: The information collection from part 121 and 135 carriers is necessary to ensure the operators's compliance to the upgrade of the fire safety standards for cargo or baggage compartments in certain transport category airplanes by eliminating Class D compartments.

Estimated Annual Burden Hours: 720 burden hours annually.

2. Title: Revisions to Digital Flight Data Recorders.

Type of Request: Extension of a currently approved collection.

OMB Control Number: 2120-0616.

Forms(s): None.

Affected Public: 2960.

Abstract: This rule requires that certain airplanes be equipped to accommodate additional digital flight data recorder parameters. The revisions require additional information to be collected to enable more thorough accident or incident investigations and to enable industry to predict certain trends and make necessary modifications before an accident or incident happens.

Estimated Annual Burden Hours: 1 burden hour.

3. Title: Bird/Other Wildlife Strike.

Type of Request: Extension of a currently approved collection.

OMB Control Number: 2120-0045.

Forms(s): FAA Form 5200-7.

Affected Public: 5,000 pilots, air traffic control operators, or other individuals who are involved in or see a bird/wildlife strike.

Abstract: Wildlife strike data are collected to develop standards and monitor hazards to aviation. Data identify wildlife strike control requirements and provide in-service data on aircraft component failure. The respondents would include the pilot-in command of an aircraft involved in an aircraft wildlife collision, or ATCT personnel, or other airport or airline personnel who have knowledge of the incident.

Estimated Annual Burden Hours: 400 burden hours annually.

Address: Send comments to the Office of Information and Regulatory Affairs, Office of Management and Budget, 725-17th Street, NW., Washington, DC 20503, Attention: FAA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on July 14, 2000.
Steve Hopkins,
Manager, Standards and Information Division, APF-100.

[FR Doc. 00-18408 Filed 7-19-00; 8:45 am]

BILLING CODE 4910-13-M